U.S.-CHINA ECONOMIC AND SECURITY REVIEW COMMISSION

Notice of Open Public Hearing

AGENCY: U.S.-China Economic and Security Review Commission.

ACTION: Notice of open public hearing—March 18, 2010, Washington, DC.

SUMMARY: Notice is hereby given of the following hearing of the U.S.-China Economic and Security Review Commission.

Name: Daniel M. Slane, Chairman of the U.S.-China Economic and Security Review Commission.

The Commission is mandated by Congress to investigate, assess, and report to Congress annually on “the national security implications of the economic relationship between the United States and the People's Republic of China.”

Pursuant to this mandate, the Commission will hold a public hearing in Washington, DC on March 18, 2010, to address “Taiwan-China: Recent Economic, Political, and Military Developments across the Strait, and Implications for the United States.”

Background

This is the third public hearing the Commission will hold during its 2010 report cycle to collect input from leading academic, industry, and government experts on national security implications of the U.S. bilateral trade and economic relationship with China. The March 18 hearing will examine the current situation and recent trends in the cross-Strait relationship from a security, economic, and political perspective, and what recent and future changes may mean for U.S. national interests in the region. The March 18 hearing will be Co-chaired by Commissioners Patrick A. Mulloy and Larry M. Wortzel.

Any interested party may file a written statement by March 18, 2010, by mailing to the contact below. On March 18, the hearing will be held in two sessions, one in the morning and one in the afternoon. A portion of each panel will include a question and answer period between the Commissioners and the witnesses.

Transcripts of past Commission public hearings may be obtained from the USCC Web Site www.uscc.gov.

DATE AND TIME: Thursday, March 18, 2010, 8:45 a.m. to 4 p.m. Eastern Standard Time. A detailed agenda for the hearing will be posted to the Commission's Web Site at www.uscc.gov as soon as available.

ADDRESSES: The hearing will be held on Capitol Hill in Room 562 of the Dirksen Senate Office Building located at First Street and Constitution Avenue, NE., Washington, DC 20510. Public seating is limited to about 50 people on a first come, first served basis. Advance reservations are not required.

FOR FURTHER INFORMATION CONTACT: Any member of the public wishing further information concerning the hearing should contact Kathy Michels, Associate Director for the U.S.-China Economic and Security Review Commission, 444 North Capitol Street, NW., Suite 602, Washington D.C. 20001; phone: 202-624-1409, or via e-mail at kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: March 1, 2010.
Kathleen J. Michels,
Associate Director, U.S.-China Economic and Security Review Commission.

[FR Doc. 2010-4631 Filed 3-4-10; 8:45 am]

BILLING CODE 1137-00-P